NATIONAL AERONAUTICS AND SPACE ADMINISTRATION

[Notice: 024-028]

NASA Advisory Council; STEM Engagement Committee; Meeting

AGENCY: National Aeronautics and Space Administration.

ACTION: Notice of meeting.

SUMMARY: In accordance with the Federal Advisory Committee Act, as amended, the National Aeronautics and Space Administration announces a meeting of the Science, Technology, Engineering and Mathematics (STEM) Engagement Committee of the NASA Advisory Council (NAC). This Committee reports to the NAC.

DATES: Thursday, May 2, 2024, 10 a.m. to 4 p.m., eastern time.

ADDRESSES: Virtual meeting by dial-in teleconference and WebEx only.

FOR FURTHER INFORMATION CONTACT: Dr. Tara Strang, Designated Federal Officer (DFO), NAC STEM Engagement Committee, NASA Headquarters, Washington, DC 20546, (216) 410-4335, or tara.m.strang@nasa.gov.

SUPPLEMENTARY INFORMATION: This meeting will be available virtually telephonically and by WebEx. You must use a touch-tone phone to participate in this meeting. Any interested person may dial the toll free access number 415-527-5035, and then the access code: 282 927 39898 followed by the # sign. To join via WebEx, use link: https://nasaenterprise.webex.com/nasaenterprise/j.php?MTID=m9fa1e7b4c5aec757b120371acdecef7e and the meeting number is 2829 273 9898 and the password is kZ5xXCda3@3 (Password is case sensitive.) NOTE: If dialing in, please “mute” your telephone. The agenda for the meeting will include the following:

—Opening Remarks by Chair

—NASA STEM Engagement Update

—Presentation Topics:

○ NASA STEM Engagement Partnerships

○ NASA OSTEM and ARMD Collaborations

○ NASA STEM Impacts

—Formulation of New Findings and Recommendations

—Other Related Topics

It is imperative that the meeting be held on this date to accommodate the scheduling priorities of the key participants.

Carol J. Hamilton,
Acting Advisory Committee Management Officer, National Aeronautics and Space Administration.

[FR Doc. 2024-07285 Filed 4-4-24; 8:45 am]

BILLING CODE P